DEPARTMENT OF HOMELAND SECURITY

Coast Guard

[USCG-2004-17110]

Navigation Safety Advisory Council

AGENCY: Coast Guard, DHS.

ACTION: Notice of meeting.

SUMMARY: The Navigation Safety Advisory Council (NAVSAC) will meet in Galveston, TX to discuss various issues relating to the safety of navigation. The meeting will be open to the public.

DATES: The NAVSAC will meet on Monday and Tuesday, March 8 and 9, 2004, from 8:30 a.m. to 5 p.m. and on Wednesday, March 10, 2004, from 8:30 a.m. to noon. The meeting may close early if all business is finished. Written material and requests to make oral presentations should reach the Coast Guard on or before March 3, 2004. Requests to have a copy of your material distributed to each member of the committee should reach the Coast Guard on or before February 27, 2004.

ADDRESSES: NAVSAC will meet at The Tremont House, 2300 Ships Mechanic Row, Galveston, TX 77550. Send written material and requests to make oral presentations to Margie Hegy, Commandant (G-MW), U.S. Coast Guard Headquarters, 2100 Second Street SW., Washington, DC 20593-0001. This notice is available on the Internet at http://dms.dot.gov.

FOR FURTHER INFORMATION CONTACT: Margie Hegy, Executive Director of GLPAC, telephone 202-267-0415, fax 202-267-4700.

SUPPLEMENTARY INFORMATION: Notice of the meeting is given under the Federal Advisory Committee Act, 5 U.S.C. App. 2.

Agenda of Meeting

The agenda includes the following:

(1) Navigation and Safety Issues Associated with Containers Overboard.

(2) Obstructions in Anchorages and Fairways.

(3) Update on Ballast Water Issues.

(4) Marine Mammal Interface with Commercial Shipping.

(5) Inland Navigation Rules 18(f) and 34(h), and Annex 3—are changes needed in light of International Rules Amendments and the Automatic Identification System (AIS)?

(6) Visibility from the Wheelhouse of Towing Vessels.

(7) General Services Administration (GSA) Stakeholder Engagement Survey Report and NAVSAC's Business Plan.

(8) Update on Vessel Traffic Management and AIS.

(9) Update on the Marine Transportation System (MTS).

(10) Transportation Research Board of the National Academies' Special Report on “The Marine Transportation System and the Federal Role”.

Procedural

The meetings are open to the public. Please note that the meetings may close early if all business is finished. At the Chair's discretion, members of the public may make oral presentations during the meeting. If you would like to make an oral presentation at the meeting, please notify the Executive Director no later than March 3, 2004. Written material for distribution at the meeting should reach the Coast Guard no later than March 3, 2004. If you would like a copy of your material distributed to each member of the committee in advance of the meeting, please submit 25 copies to Margie Hegy at the address in the ADDRESSES section no later than February 27, 2004.

Information on Services for Individuals With Disabilities

For information on facilities or services for individuals with disabilities or to request special assistance at the meeting, contact the Executive Director as soon as possible.

Dated: February 13, 2004.
L.L. Hereth,
Rear Admiral, U.S. Coast Guard, Acting Assistant Commandant for Marine Safety, Security and Environmental Protection.

[FR Doc. 04-3618 Filed 2-18-04; 8:45 am]

BILLING CODE 4910-15-P